DEPARTMENT OF COMMERCE

National Oceanic and Atmospheric Administration

RIN 0648-XD113

Pacific Fishery Management Council; Public Meeting

AGENCY: National Marine Fisheries Service (NMFS), National Oceanic and Atmospheric Administration (NOAA), Commerce.

ACTION: Notice of public meetings.

SUMMARY: The Pacific Fishery Management Council (Pacific Council) will convene a Pacific Sardine Stock Assessment Review (STAR) Panel meeting and a data availability meeting.

DATES: The STAR Panel meeting will be held Monday, March 3 through Wednesday, March 5, 2014. That meeting will begin the first day at 8:30 a.m. and at 8 a.m., each subsequent day. The meeting will conclude each day at 5 p.m. or when business for the day has been completed. The data availability meeting will begin at 8 a.m. and conclude at 2 p.m. on Thursday, March 6, 2014.

ADDRESSES: The meetings will be held in the Pacific Conference Room of the NOAA Southwest Fisheries Science Center, 8901 La Jolla Shores Dr., La Jolla, CA 92037-1508.

FOR FURTHER INFORMATION CONTACT: Kerry Griffin, Staff Officer; telephone: (503) 820-2280.

SUPPLEMENTARY INFORMATION: The primary purpose of the meeting is to review a full stock assessment for Pacific sardine. The last full stock assessment was in 2011, with updates completed in 2012 and 2013. The review panel will consist of two members of the Pacific Council's Scientific and Statistical Committee's Subcommittee on Coastal Pelagic Species (CPS), plus two independent experts. The Pacific Council will use the 2014 assessment to establish Pacific sardine fishery management measures and harvest specifications for the 2014-15 fishing year, beginning July 1, 2014 and ending June 30, 2015. Representatives of the Pacific Council's CPS Management Team and the CPS Advisory Subpanel will also attend the meeting.

The purpose of the data availability meeting is to identify likely sources of fisheries data and surveys that can potentially be used in future assessments for Pacific sardine, Pacific mackerel, northern anchovy, and jack mackerel.

Action will be restricted to those issues specifically listed in this notice and any issues arising after publication of this notice that require emergency action under Section 305(c) of the Magnuson-Stevens Fishery Conservation and Management Act, provided the public has been notified of the panel's intent to take final action to address the emergency.

Special Accommodations

This listening station is physically accessible to people with disabilities. Requests for sign language interpretation or other auxiliary aids should be directed to Mr. Dale Sweetnam, (858) 546-7170, at least 5 days prior to the meeting date.

Dated: February 5, 2014.
Tracey L. Thompson,
Acting Deputy Director, Office of Sustainable Fisheries, National Marine Fisheries Service.

[FR Doc. 2014-02850 Filed 2-10-14; 8:45 am]

BILLING CODE 3510-22-P